DEPARTMENT OF JUSTICE

Notice of Lodging of Consent Decree Under the Clean Air Act

Under 28 CFR 50.7, notice is hereby given that on December 30, 2010, a proposed Consent Decree (“Consent Decree”) in the matter of United States v. Commonwealth of Pennsylvania, et al, Civil Action No. 4:10-cv-02672-CCC, was lodged with the United States District Court for the Middle District of Pennsylvania.

In the complaint in this matter, the United States sought injunctive relief and civil penalties against the Pennsylvania Department of Corrections and Department of General Services (collectively, the “Commonwealth”) for claims arising under the Clean Air Act in connection with the operation of four state correctional facilities located in Muncy, Bellefonte (Rockview), Somerset, and Huntingdon, PA. Under the Consent Decree, the Commonwealth will control particulate matter emissions at the facilities by either shutting down coal-fired boilers, installing air emission controls, or converting the coal-fired boilers to natural gas-fired boilers. The Commonwealth will pay a civil penalty of $300,000 for past violations. The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States v. Commonwealth of Pennsylvania, et al, D.J. Ref. No. 90-5-2-1-09099.

The Consent Decree may be examined at the Office of the United States Attorney, Harrisburg Federal Building and Courthouse, 228 Walnut Street, Suite 200, Harrisburg, Pennsylvania, 17108-1754 and at U.S. EPA Region 3, 1650 Arch Street, Philadelphia, Pennsylvania, 19103-2029. During the public comment period, the Consent Decree may also be examined on the following Department of Justice Web site: http://www.usdoj.gov/enrd/Consent_Decrees.html. A copy of the Consent Decree may also be obtained by mail from the Consent Decree Library, P.O. Box 7611, U.S. Department of Justice, Washington, DC 20044-7611, or by faxing or e-mailing a request to Tonia Fleetwood (tonia.fleetwood@usdoj.gov) fax number (202) 514-0097, phone confirmation number (202) 514-1547. In requesting a copy from the Consent Decree Library, please enclose a check in the amount of $8.00 (25 cents per page reproduction cost) payable to the U.S. Treasury, or, if by e-mail or fax, forward a check in that amount to the Consent Decree Library at the stated address.

Maureen Katz,
Assistant Section Chief, Environmental Enforcement Section, Environment and Natural Resources Division.

[FR Doc. 2011-68 Filed 1-6-11; 8:45 am]

BILLING CODE 4410-15-P